DEPARTMENT OF COMMERCE

National Oceanic and Atmospheric Administration

50 CFR Part 660

[Docket No. 210505-0101; RTID 0648-XB377]

Fisheries Off West Coast States; Modification of the West Coast Salmon Fisheries; Inseason Action #26 Through #30

AGENCY: National Marine Fisheries Service (NMFS), National Oceanic and Atmospheric Administration (NOAA), Commerce.

ACTION: Inseason modification of 2021 management measures.

SUMMARY: NMFS announces five inseason actions in the 2021 ocean salmon fisheries. These inseason actions modified the recreational and commercial ocean salmon fishery in the area from the U.S./Canada border to Cape Falcon, OR.

DATES: The effective dates for the inseason actions are set out in this document under the heading Inseason Actions and remains in effect until superseded or modified.

FOR FURTHER INFORMATION CONTACT: Shannon Penna at 562-676-2148, email: shannon.penna@noaa.gov.

SUPPLEMENTARY INFORMATION:

Background

The 2021 annual management measures for ocean salmon fisheries (86 FR 26425, May 14, 2021), announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council) and the appropriate State Directors (50 CFR 660.409(b)—Flexible inseason management provisions).

Management of the salmon fisheries is divided into two geographic areas: North of Cape Falcon (NOF) (U.S./Canada border to Cape Falcon, OR) and south of Cape Falcon (Cape Falcon, OR, to the U.S./Mexico border). The actions described in this document affected the NOF recreational salmon fishery, as set out under the heading Inseason Action.

Consultation on these inseason actions occurred on August 20, 2021, August 26, 2021, and September 2, 2021. Representatives from NMFS, Washington Department of Fish and Wildlife (WDFW), Oregon Department of Fish and Wildlife (ODFW), and Council staff participated in the consultations.

These inseason actions were announced on NMFS' telephone hotline and U.S. Coast Guard radio broadcast on the date of the consultations (50 CFR 660.411(a)(2)).

Inseason Action

Inseason Action #26

Description of the action: Inseason action #26 modified the bag limit in the NOF recreational salmon fishery Queets River to Leadbetter Point (Westport subarea), from a two salmon per day bag limit, no more than one of which may be a Chinook salmon, to a two salmon per day bag limit, beginning at 12:01 a.m. on Friday, August 21, 2021.

Effective date: Inseason action #26 took effect on August 21, 2021, and remains in effect until superseded.

Reason and authorization for the action: The 2021 management measures opened the recreational ocean salmon fishery in the Westport subarea with a bag limit of two salmon per day, no more than one of which may be a Chinook salmon (86 FR 26425, May 14, 2021). Modifying the bag limit to two salmon is consistent with preseason planning and management objectives and provisions of the Pacific Coast Salmon Fishery management Plan (FMP) because the measure would provide greater fishing opportunity for the public to access the available coho quota and Chinook salmon guideline, provide economic benefit to the fishery dependent communities, and was not expected to result in reducing season length or to exceed the recreational quotas.

The NMFS West Coast Region Regional Administrator (RA) considered the landings of Chinook and coho salmon in the NOF recreational salmon fishery, fishery effort that had occurred as well as effort anticipated under the proposal, and the recreational Chinook salmon guideline and coho quotas remaining. The RA determined that inseason action #26 was necessary to meet preseason planning and management objectives to allow access to available salmon quota and support the economy of fishery dependent communities while remaining consistent with the applicable salmon management and conservation objectives. The modification of recreational fishing bag limits is authorized by 50 CFR 660.409(b)(1)(iii).

Consultation date and participants: Consultation on inseason action #26 occurred on August 20, 2021. Representatives from NMFS, WDFW, ODFW, and the Council participated in this consultation.

Inseason Action #27

Description of the action: Inseason action #27 closed the NOF recreational salmon fishery from Leadbetter Point, WA to Cape Falcon, OR (Columbia River subarea) due to anticipated attainment of the quota and guideline.

Effective date: Inseason action #27 took effect at 12:01 a.m., August 30, 2021, and remains in effect until superseded.

Reason and authorization for the action: The purpose of inseason action #27 was to avoid exceeding the subarea quota for coho salmon and the guideline for Chinook salmon in the Columbia River subarea recreational salmon fishery. The NMFS West Coast Region RA considered the landings of coho and Chinook salmon in the NOF recreational salmon fishery to date, fishery catch and effort to date as well as anticipated under the proposal, and the recreational coho salmon quota and Chinook salmon guideline remaining in the Columbia River subarea. The recreational ocean salmon fishery in the Columbia River subarea opened June 19, 2021, with a coho salmon quota of 42,400 and a Chinook salmon guideline of 7,200. Through August 22, 34,800 coho salmon (80 percent of the subarea quota) and 5,547 Chinook salmon (77 percent of the subarea guideline) were caught in the Columbia River subarea. Projected catch in the Columbia River subarea for the week of August 23 to August 29 was 8,027 coho salmon and 973 Chinook salmon, which would result in a cumulative catch of 99 percent of the subarea coho salmon quota and 91 percent of the subarea Chinook salmon guideline. The RA determined that inseason action #27 was necessary to avoid exceeding the subarea quota and guideline set preseason. The modification of recreational fishing season is authorized by 50 CFR 660.409(b)(1)(i).

Consultation date and participants: Consultation on inseason action #27 occurred on August 26, 2021. Representatives from NMFS, WDFW, and ODFW participated in this consultation.

Inseason Action #28

Description of the action: Inseason action #28 closed the NOF recreational salmon fishery from Cape Alava to Queets River (La Push subarea) due to anticipated attainment of the coho salmon quota.

Effective date: Inseason action #28 took effect at 12:01 a.m., September 4, 2021, and remains in effect until superseded.

Reason and authorization for the action: The purpose of inseason action #28 was to avoid exceeding the subarea quota for coho salmon in the La Push subarea recreational salmon fishery. The NMFS West Coast Region RA considered the landings of coho salmon in the NOF recreational salmon fishery to date, catch and fishery effort to date as well as anticipated under the proposal, and the recreational coho salmon quota remaining in the La Push subarea. The recreational ocean salmon fishery in the La Push subarea opened June 19, 2021, with a coho salmon quota of 1,430. Through August 29, 2021, 1,152 coho salmon were caught in the La Push subarea (81 percent of the subarea quota). Projected catch through September 3, 2021 in the La Push subarea was 1,334 coho salmon, which would result in a cumulative catch of 93 percent of the subarea coho salmon quota. The RA determined that inseason action #28 was necessary to avoid exceeding the subarea quota set preseason. The modification of recreational fishing season is authorized by 50 CFR 660.409(b)(1)(i).

Consultation date and participants: Consultation on inseason action #28 occurred on September 2, 2021. Representatives from NMFS, WDFW, ODFW, and Council staff participated in this consultation.

Inseason Action #29

Description of the action: Inseason action #29 closed the NOF recreational salmon fishery from Queets River to Leadbetter Point (Westport subarea) due to anticipated attainment of the coho salmon quota.

Effective date: Inseason action #29 took effect at 12:01 a.m., September 8, 2021, and remains in effect until superseded.

Reason and authorization for the action: The purpose of inseason action #29 was to avoid exceeding the subarea quota for coho salmon in the Westport subarea recreational salmon fishery. The NMFS West Coast Region RA considered the landings of coho salmon in the NOF recreational salmon fishery to date, catch and fishery effort to date as well as anticipated under the proposal, and the recreational coho salmon quota remaining in the Westport subarea. The recreational ocean salmon fishery in the Westport subarea opened June 19, 2021, with a coho salmon quota of 20,440. Through August 29, 2021, 13,942 coho salmon (68 percent of the subarea quota) were caught in the Westport subarea. Projected catch through September 7, 2021 in the Westport subarea was 20,113 coho salmon, which would result in a cumulative catch of 98 percent of the subarea coho salmon quota. The RA determined that inseason action #29 was necessary to avoid exceeding the subarea quota set preseason. The modification of recreational fishing season is authorized by 50 CFR 660.409(b)(1)(i).

Consultation date and participants: Consultation on inseason action #29 occurred on September 2, 2021. Representatives from NMFS, WDFW, ODFW, and Council staff participated in this consultation.

Inseason Action #30

Description of the action: Inseason action #30 for the commercial salmon troll fishery from the U.S./Canada border to Cape Falcon, OR, modified the landing and possession limit from 20 marked coho salmon per vessel per landing week (Thursday-Wednesday) to 50 marked coho salmon per vessel per landing week (Thursday-Wednesday).

Effective date: Inseason action #30 took effect at 12:01 a.m. on September 3, 2021, and remains in effect until superseded.

Reason and authorization for the action: The purpose of inseason action #30 was to allow greater access to the coho salmon quota in the commercial salmon troll fishery and result in increased fishing interest and the quota being met prior to the scheduled season ending date of September 30, 2021. The RA considered the landed catch of coho and Chinook salmon to date and the amount of quota and guideline remaining, projected catch under the proposal, and the timing of the action relative to the length of the season, and determined that inseason action #30 was necessary to meet management goals set preseason including fully attaining the coho quota. The modification of recreational fishing season is authorized by 50 CFR 660.409(b)(1)(ii).

Consultation date and participants: Consultation on inseason action #30 occurred on September 2, 2021. Representatives from NMFS, WDFW, ODFW, and Council staff participated in this consultation.

All other restrictions and regulations remain in effect as announced for the 2021 ocean salmon fisheries (86 FR 26425, May 14, 2021), as modified by previous inseason action (86 FR 34161, June 29, 2021; 86 FR 37249, July 15, 2021; 86 FR 40182, July 28, 2021; 86 FR 43967, August 11, 2021; 86 FR 48343, August 30, 2021).

The NMFS West Coast Region RA determined that these inseason actions were warranted based on the best available information on Pacific salmon abundance forecasts, landings to date, and anticipated fishery effort and projected catch. The states manage the fisheries in state waters adjacent to the areas of the U.S. exclusive economic zone (3-200 nautical miles (5.6-370.4 kilometers) off the coasts of the states of Washington, Oregon, and California) consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues this action pursuant to section 305(d) of the Magnuson-Stevens Fishery Conservation and Management Act. This action is authorized by 50 CFR 660.409, which was issued pursuant to section 304(b), and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information was developed and fisheries impacts were calculated, and the time the fishery modifications had to be implemented in order to ensure that fisheries are managed based on the best scientific information available. As previously noted, actual notice of the regulatory action was provided to fishers through telephone hotline and radio notification. This action complies with the requirements of the annual management measures for ocean salmon fisheries (86 FR 26425, May 14, 2021), the FMP, and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: September 28, 2021.
Jennifer M. Wallace,
Acting Director, Office of Sustainable Fisheries, National Marine Fisheries Service.

[FR Doc. 2021-21390 Filed 9-30-21; 8:45 am]

BILLING CODE 3510-22-P